DEPARTMENT OF AGRICULTURE

DEPARTMENT OF HEALTH AND HUMAN SERVICES

Announcement of the Availability of the Final Report of the Dietary Guidelines Advisory Committee, Solicitation of Written Comments on the Report, and Invitation for Oral Testimony at a Public Meeting

AGENCIES: U.S. Department of Agriculture (USDA), Food, Nutrition and Consumer Services (FNCS) and Research, Education and Economics (REE); and U.S. Department of Health and Human Services (HHS), Office of Public Health and Science (OPHS).

ACTION: Notice.

SUMMARY: The Department of Agriculture (USDA) and the Department of Health and Human Services (HHS) (a) announce the availability of the final Report of the Dietary Guidelines Advisory Committee on the Dietary Guidelines for Americans, 2010 (Report); (b) solicit written comments on the Report; and (c) provide notice of a public meeting to solicit oral comments on the Report.

DATES: This Notice is provided to the public on June 15, 2010. (1) The final Report of the Dietary Guidelines Advisory Committee (the Committee) will be available on June 15, 2010; (2) Written comments on the Committee's report can be submitted and must be received on or before 5 p.m. E.D.T. on July 15, 2010; (c) The public meeting to solicit oral comments on the Report will be held on July 8, 2010 starting at 9 a.m. E.D.T.

ADDRESSES: (a) The final Report of the Committee is available electronically on the Dietary Guidelines Web site at http://www.DietaryGuidelines.gov. A hard copy is available for public viewing from 8:30 a.m. to 4:30 p.m. E.D.T., at the Reference Desk of the National Agricultural Library, USDA/ARS, 10301 Baltimore Avenue, Beltsville, MD 20705, Monday through Friday (except Federal holidays). The Reference Desk telephone number is 301-504-5755; however, no advance appointment is necessary; (b) Written comments are encouraged to be submitted electronically at http://www.DietaryGuidelines.gov. A “submit comments” button is available at the bottom of the Web page to click on. Lengthy comments (that exceed 2,000 characters) or support materials can be uploaded as a PDF attachment. Multiple attachments must be “zip-filed”. If electronic comment submission is not possible, comments can be mailed to the following address: Carole Davis, Co-Executive Secretary and Designated Federal Officer (DFO) of the Dietary Guidelines Advisory Committee, Center for Nutrition Policy and Promotion, U.S. Department of Agriculture, 3101 Park Center Drive, Room 1034, Alexandria, VA 22302, (703) 305-7600 (telephone), (703) 305-3300 (fax); (c) The public meeting where oral comments will be presented will be held at the U.S. Department of Agriculture, Jefferson Auditorium, 1400 Independence Ave., SW., Washington, DC 20250.

FOR FURTHER INFORMATION CONTACT: USDA Co-Executive Secretaries: Carole Davis, DFO to the Dietary Guidelines Advisory Committee (telephone 703-305-7600), Center for Nutrition Policy and Promotion, 3101 Park Center Drive, Room 1034, Alexandria, Virginia 22302; or Shanthy Bowman (telephone 301-504-0619), Agricultural Research Service (ARS), Beltsville Human Nutrition Research Center, 10300 Baltimore Avenue, Building 005, Room 125, BARC-WEST, Beltsville, Maryland 20705. HHS Co-Executive Secretaries: Kathryn McMurry (telephone 240-453-8280) or Holly McPeak (telephone 240-453-8280), Office of Disease Prevention and Health Promotion, Office of Public Health and Science, 1101 Wootton Parkway, Suite LL100, Rockville, Maryland 20852. Additional information is available on the Internet at http://www.DietaryGuidelines.gov.

SUPPLEMENTARY INFORMATION: The Dietary Guidelines Advisory Committee Report: The thirteen-member Dietary Guidelines Advisory Committee was appointed by USDA and HHS in October 2008 to assist both Departments in providing sound and current dietary guidance to consumers. Section 301 of Public Law 101-445 (7 U.S.C. 5341, the National Nutrition Monitoring and Related Research Act of 1990, Title III) directs the Secretaries of USDA and HHS to publish the Dietary Guidelines for Americans at least every five years. During its first meeting on October 30-31, 2008, the Committee decided that the science had changed since the 2005 (sixth) edition of the Dietary Guidelines for Americans and that a revision to the current Dietary Guidelines was necessary. The Committee has finalized its recommendations and submitted its Report to the Secretaries of USDA and HHS. This Report will serve as the basis for the seventh edition of the Dietary Guidelines for Americans, which USDA and HHS expect to publish later this year (2010).

Purpose of the Meeting: After a thorough review of the most current scientific and applied literature and open Committee deliberations, the Committee has provided its recommendations in the form of an advisory report to the Secretaries of both Departments. By this notice, USDA and HHS are inviting comments on the Committee's final Report. Instructions for written comments are provided above. This meeting will provide opportunity for oral comments by the public.

Public Participation: By this notice, USDA and HHS are inviting submission of requests from the public to present three minutes of oral testimony. The public meeting is planned from 9 a.m. E.D.T. to no later than 5 p.m. E.D.T. on July 8, 2010 in the Jefferson Auditorium within the USDA South Building, located at the corner of Independence Ave. and 14th Street, SW., Washington, DC. Because of the need for security screening, pre-registration is required. All visitors must bring a photo I.D. Registration to present oral testimony will be confirmed (via e-mail) on a first-come, first-served basis, as time on the presentation agenda permits. The confirmation e-mail will also include information regarding security procedures for entering the South Building, directions to the Jefferson Auditorium, and metro, parking, and hotel information. Please call Crystal Tyler at 202-314-4701 should you require a sign language interpreter or require other special accommodations. Requests to provide oral testimony can be made by going to http://www.DietaryGuidelines.gov and clicking on the link for Meeting Registration or by calling the scheduler through the meeting planner, Crystal Tyler, at 202-314-4701 by 5 p.m. E.D.T., June 30, 2010. Requests to present oral testimony must include a written outline of the intended testimony not to exceed one page in length. Presenters are required to disclose their affiliations and any sources of funding.

Dated: June 1, 2010.
Robert C. Post,
Acting Executive Director, Center for Nutrition Policy and Promotion, U.S. Department of Agriculture.
Dated: Jun 4, 2010.
Edward B. Knipling,
Administrator, Agricultural Research Service, U.S. Department of Agriculture.
Dated: June 3, 2010.
Penelope Slade-Sawyer,
Deputy Assistant Secretary for Health (Disease Prevention and Health Promotion), U.S. Department of Health and Human Services.

[FR Doc. 2010-14324 Filed 6-14-10; 8:45 am]

BILLING CODE 3410-30-P